DEPARTMENT OF DEFENSE

Office of the Secretary of Defense

Privacy Act of 1974; Systems of Records

AGENCY: Defense Threat Reduction Agency, DOD.

ACTION: Notice to amend a system of records.

SUMMARY: The Defense Threat Reduction Agency is amending a system of records notice to its existing inventory of record systems subject to the Privacy Act of 1974 (5 U.S.C. 552a), as amended.

DATES: This proposed action will be effective without further notice on December 11, 2006 unless comments are received that would result in a contrary determination.

ADDRESSES: Send comments to the General Counsel, Defense Threat Reduction Agency, 8725 John J. Kingman Road, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: November 3, 2006.
L.M. Bynum,
Alternate OSD Federal Register Liaison Officer, Department of Defense.

HDTRA 019

System Name:

Treaty Inspection Information Management System (August 3, 2005, Vol 70 FR 44577)

Changes:

* * * * *

System Location:

Delete and replace entry with “Defense Threat Reduction Agency, Room 4528, HQ Complex, 8725 John J. Kingman Road, VA 22060-6201.”

* * * * *

Safeguards:

Delete and replace entry with “Records are maintained in areas accessible only to DTRA personnel who must use the records to perform their duties. The computer files are password protected with access restricted to authorized users. Records are secured in locked or guarded buildings, locked offices, or locked cabinets during non-duty hours.”

Retention and Disposal:

Delete and replace entry with “Records are maintained for as long as the individual is assigned to DTRA. Upon departure from DTRA, records concerning that individual are removed from the active file and retained in an inactive file for two years. Information that has been held in inactive file for two years is then deleted.”

* * * * *

HDTRA 019

System name:

Treaty Inspection Information Management System (August 3, 2005, 70 FR 44577).

System location:

Defense Threat Reduction Agency, Room 4528, HQ Complex, 8725 John J. Kingman Road, VA 22060-6201.

Categories of individuals covered by the system:

Individuals affiliated with the Defense Threat Reduction Agency, either by military assignment, civilian employment, or contractual support agreement. Individuals are weapons inspectors, linguists, mission schedulers/planners, personnel assistants/specialists, portal rotation specialists, operation technicians, passport managers, clerical staff, and database management specialists.

Categories of records in the system:

Information includes individual's name, Social Security Number, date of birth, city/state/country of birth, education, gender, race, civilian or military member, rank (if military), security clearance, occupational category, job organization and location, and emergency locator information.

Authority for maintenance of the system:

5 U.S.C. 301, Departmental Regulations; 5 U.S.C. 302, Delegation of authority; 5 U.S.C. 4103, Establishment of training programs; Pub. L. 89-554 (September 6, 1966); and E.O. 9397 (SSN).

Purpose(s):

To manage the Treaty Monitoring and Inspection activities, including personnel resources, manpower/billet management, passport status, mission scheduling and planning, inspection team composition, inspector and transport list management, inspector training, and inspection notification generation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DTRA's compilation of systems of records notices apply to this system.

Policies and practices of storing, retrieving, accessing, retaining, and disposing of records in the system:

Storage:

Records are stored on paper and electronic storage media.

Retrievability:

Records may be retrieved by name or Social Security Number, title, and personnel type.

Safeguards:

Records are maintained in areas accessible only to DTRA personnel who must use the records to perform their duties. The computer files are password protected with access restricted to authorized users. Records are secured in locked or guarded buildings, locked offices, or locked cabinets during non-duty hours. Records are stored in a computer system with extensive intrusion safeguards.

Retention and disposal:

Records are maintained for as long as the individual is assigned to DTRA. Upon departure from DTRA, records concerning that individual are removed from the active file and retained in an inactive file for two years. Information that has been held in an inactive file for two years is then deleted.

System manager(s) and address:

TIIMS System Administrator, Operations Enterprise, Operations Branch, Defense Threat Reduction Agency, Room 4528, HQ Complex, 8725 John J. Kingman Rd., VA 22060-6201.

Notification procedure:

Individuals seeking information about themselves contained in this system should address written inquiries to TIIMS System Administrator, Operations Enterprise, Operations Branch, Defense Threat Reduction Agency, Room 4528, HQ Complex, 8725 John J. Kingman Road, VA 22060-6201.

The inquiry should include full name and Social Security Number.

Record access procedures:

Individuals seeking to access information about themselves contained in this system should address written inquiries to TIIMS System Administrator, Operations Enterprise, Operations Branch, Defense Threat Reduction Agency, Room 4528, HQ Complex, 8725 John J. Kingman Road, VA 22060-6201.

The inquiry should include full name and Social Security Number.

Contesting record procedures:

The DTRA rules for accessing records and for contesting contents and appealing initial agency determinations are published in DTRA Instruction 5400.11; 32 CFR part 318; or may be obtained from the TIIMS System Administrator, Operations Enterprise, Operations Branch, Defense Threat Reduction Agency, Room 4528, HQ Complex, 8725 John J. Kingman Road, Ft. Belvoir VA 22060-6201.

Record source categories:

Information is provided by the individual, obtained form other personnel record sources, and from the individual's superiors and assignment personnel.

Exemptions claimed for the system:

None.

[FR Doc. 06-9139 Filed 11-8-06; 8:45 am]

BILLING CODE 5001-06-M